ENVIRONMENTAL PROTECTION AGENCY

[FRL-9841-2]

Adequacy Status of the Houston-Galveston-Brazoria, Texas Reasonable Further Progress and Attainment Demonstration Implementation Plan for the 1997 8-Hour Ozone Standard; Motor Vehicle Emission Budgets for Transportation Conformity Purposes

AGENCY: Environmental Protection Agency (EPA).

ACTION: Notice of adequacy.

SUMMARY: EPA is notifying the public that it has found that the motor vehicle emissions budgets (MVEBs) in the Houston-Galveston-Brazoria, Texas (HGB) 1997 8-hour ozone standard Reasonable Further Progress (RFP) and Attainment Demonstration (AD) State Implementation Plan (SIP) revisions, submitted on May 6, 2013 by the Texas Commission on Environmental Quality (TCEQ), are adequate for transportation conformity purposes. As a result of EPA's finding, the HGB area must use these budgets for future conformity determinations.

DATES: These budgets are effective August 19, 2013.

FOR FURTHER INFORMATION CONTACT: The essential information in this notice will be available at EPA's conformity Web site: http://www.epa.gov/otaq/stateresources/transconf/adequacy.htm. You may also contact Mr. Jeffrey Riley, Air Planning Section (6PD-L), U.S. Environmental Protection Agency, Region 6, 1445 Ross Avenue, Dallas, Texas 75202-2733, telephone (214) 665-8542, Email address: Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On May 6, 2013, TCEQ submitted as a SIP revision updated MVEBs for the HGB area. The MVEBs updated the March 2010 HGB 1997 8-hour ozone RFP and AD SIP revisions to replace the on-road mobile source emissions inventories for NOX and VOCs based on EPA's MOBILE model with those based on EPA's MOVES model. This submittal established MVEBs for the HGB area for the years 2008, 2011, 2014, 2017 and 2018. The MVEB is the amount of emissions allowed in the state implementation plan for on-road motor vehicles; it establishes an emissions ceiling for the regional transportation network. The MVEBs are provided in Tables 1 and 2:

Table 1— Houston-Galveston-Brazoria 1997 8-Hour Ozone Reasonable Further Progress NOX and VOC MVEBs
Pollutant | 2008 | 2011 | 2014 | 2017 | 2018
NOX | 261.95 | 234.92 | 171.63 | 130.00 | 120.99
VOC | 102.50 | 93.56 | 71.56 | 59.76 | 57.02

Table 2—Houston-Galveston-Brazoria 1997 8-Hour Ozone Attainment Demonstration NOX and VOC MVEBs
[Summer season tons per day]
Pollutant | 2018
NOX | 103.34
VOC | 50.13

On May 14, 2013, EPA posted the availability of the HGB area MVEBs on EPA's Web site for the purpose of soliciting public comments, as part of the adequacy process. The comment period closed on June 13, 2013, and we received no comments.

Today's notice is simply an announcement of a finding that EPA has already made. EPA Region 6 sent a letter to TCEQ on July 17, 2013, finding that the MVEBs in the HGB 1997 8-hour ozone RFP and AD SIPs, submitted on May 6, 2013 are adequate and must be used for transportation conformity determinations in the HGB area. This finding has also been announced on EPA's conformity Web site: http://www.epa.gov/otaq/stateresources/transconf/adequacy.htm.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the HGB 1997 8-hour ozone RFP and AD SIP revision submittals. Even if EPA finds the budgets adequate, the HGB RFP and AD SIP revision submittals could later be disapproved.

Within 24 months from the effective date of this notice, the HGB-area transportation partners, such as the Houston-Galveston Area Council, will need to demonstrate conformity to the new MVEBs if the demonstration has not already been made, pursuant to 40 CFR 93.104(e). See 73 FR 4419 (January 24, 2008).

Authority: 42 U.S.C. 7401 et seq.

Dated: July 19, 2013.
Ron Curry,
Regional Administrator, Region 6.

[FR Doc. 2013-18545 Filed 8-1-13; 8:45 am]

BILLING CODE 6560-50-P